DEPARTMENT OF COMMERCE

International Trade Administration

[A-412-822]

Stainless Steel Bar From the United Kingdom: Preliminary Results of Antidumping Duty Administrative Review

AGENCY: Import Administration, International Trade Administration, Department of Commerce.

ACTION: Notice of preliminary results of antidumping duty administrative review.

SUMMARY: In response to timely requests by one manufacturer/exporter and the petitioners,¹ the Department of Commerce is conducting an administrative review of the antidumping duty order on stainless steel bar from the United Kingdom with respect to one company. The period of review is August 2, 2001, through January 28, 2002, and March 8, 2002, through February 28, 2003.²

¹ The petitioners are Carpenter Technology Corporation; Crucible Specialty Metals Division, Crucible Materials Corporation; Electralloy Corporation, a Division of G.O. Carlson, Inc., and Slater Steels Corporation, Specialty Alloys Division.

² The review period does not include January 29, 2002, through March 7, 2002, for reasons explained in our Notice of Amended Antidumping Duty Orders: Stainless Steel Bar from France, Germany, Italy, Korea, and the United Kingdom, 68 FR 58660 (October 10, 2003).

We preliminarily determine that sales have been made below normal value. Interested parties are invited to comment on these preliminary results. If these preliminary results are adopted in our final results of administrative review, we will instruct U.S. Customs and Border Protection to assess antidumping duties on all appropriate entries.

EFFECTIVE DATE: January 7, 2004.

FOR FURTHER INFORMATION CONTACT: Rebecca Trainor or Kate Johnson, Office 2, AD/CVD Enforcement Group I, Import Administration—Room B099, International Trade Administration, U.S. Department of Commerce, 14th Street and Constitution Avenue, NW., Washington, DC 20230; telephone: (202) 482-4007 or (202) 482-4929, respectively.

SUPPLEMENTARY INFORMATION:

Background

On March 7, 2000, the Department published in the Federal Register an antidumping duty order on stainless steel bar from the United Kingdom (67 FR 10381). On October 10, 2003, we published an amended antidumping duty order (68 FR 58660).

On March 3, 2003, we published a notice advising of the opportunity to request an administrative review of the antidumping duty order on stainless steel bar from the United Kingdom (68 FR 9974). In response to timely requests by two manufacturers/exporters, Corus Engineering Steels Limited (CES) and Firth Rixson Special Steels Limited (FRSS), and the petitioners, the Department published a notice of initiation of an administrative review with respect to two companies: CES and FRSS (68 FR 19498 (April 21, 2003)).

On May 7, 2003, the Department issued antidumping duty questionnaires to the above-mentioned companies. On June 11, 2003, FRSS requested that the Department limit its request for information concerning sales in the United Kingdom and its request for information concerning the cost of production for those sales. On July 8, 2003, we granted FRSS's request to limit its reporting of home market sales and the associated cost of production for those sales.

On June 26, 2003, CES timely withdrew its request for an administration review of the antidumping duty order on stainless steel bar from the United Kingdom for the above-referenced review period. On July 10, 2003, we published a Notice of Partial Rescission of Antidumping Duty Administrative Review with respect to CES (68 FR 41112).

We received FRSS's response to the questionnaire on July 25, 2003. We issued supplemental questionnaires in August, September and October 2003, and received responses during the period August through November 2003.

On October 27, 2003, we received notification from counsel for FRSS that the company did not intend to participate any further in the administrative review. For further discussion, see the “Use of Facts Available (FA)” section of this notice.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Use of Facts Available

On October 27, 2003, two weeks prior to the Department's planned verification of FRSS's submitted cost and sales information, FRSS notified the Department that it no longer intended to participate in this administrative review (see printed electronic message from William L. Matthews to LaVonne Jackson on file in the Central Records Unit, Room B-099 of the Commerce Department.) Section 776(a)(2)(D) of the Act provides that, if an interested party provides information that cannot be verified, the Department shall use, subject to sections 782(d) and (e) of the Act, facts otherwise available in reaching the applicable determination.

Once we determine that the use of facts available is warranted, section 776(b) of the Act further permits us to apply an adverse inference if we make the additional finding that “[a respondent] has failed to cooperate by not acting to the best of its ability to comply with a request for information.” By ceasing to participate in the review, effectively cancelling the Department's planned verification of FRSS's submitted cost and sales information, FRSS did not act to the best of its ability as required by section 776(b) of the Act. Consequently, we have determined to make an adverse inference in determining a dumping margin for FRSS.

(See Notice of Final Determination of Sales at Less Than Fair Value: Polyvinyl Alcohol From the Republic of Korea, 68 FR 47540 (August 11, 2003).)

Section 776(b) of the Act authorizes the Department to use as adverse facts available (AFA) information derived from the petition, the final determination from the less-than-fair-value (LTFV) investigation, a previous administrative review, or any other information placed on the record. As AFA, we have assigned to FRSS the highest margin found in any segment of the proceeding, which in this case is the highest margin calculated in the petition, and used as AFA in the LTFV investigation. See Notice of Final Determination of Sales at Less Than Fair Value: Stainless Steel Bar from the United Kingdom, 67 FR 3146 (January 23, 2002). See also Notice of Preliminary Results of Antidumping Duty Administrative Review: Foundry Coke from the People's Republic of China, 68 FR 57869 (October 7, 2003) (Foundry Coke) and Notice of Final Results of Antidumping Duty Administrative Review: Persulfates from the People's Republic of China, 66 FR 42628 (August 14, 2001) (Persulfates) (employing a petition rate used as adverse facts available in a previous segment as adverse facts available in the current review).

Section 776(c) of the Act provides that, when the Department relies on secondary information (such as the petition) in using the facts otherwise available, it must, to the extent practicable, corroborate that information from independent sources that are reasonably at its disposal. We have interpreted “corroborate” to mean that we will, to the extent practicable, examine the reliability and relevance of the information used. See, e.g., Foundry Coke at 57874, citing Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996), and Persulfates at 42629. In this case, when analyzing the petition for purposes of the LTFV initiation, we reviewed all of the data upon which the petitioners relied in calculating the estimated dumping margins, and determined that the margins in the petition were appropriately calculated and supported by adequate evidence in accordance with the statutory requirements for initiation. In order to corroborate the petition margins for purposes of using them as AFA for the investigation, we re-examined the price and cost information provided in the petition in light of information developed during the investigation. For the purposes of this administrative review, we once again re-examined the petition information relative to verified data gathered during the investigation, as we did in Persulfates. The rate used is also the rate currently applicable to FRSS. We conclude that this data continues to be the best information reasonably available to us, as no information has been presented in this review to call into question its reliability or relevance. (See the Memorandum Regarding the Use of Facts Available dated December 30, 2003, on file in Room B-099 of the main Commerce building.)

In accordance with section 776(c) of the Act, we consider the petition rates to be corroborated using information from independent sources that were reasonably at our disposal. As a result, we have preliminarily assigned FRSS the highest rate from any segment of the proceeding, 125.77 percent.

Preliminary Results of Review

As a result of this review, we preliminarily determine that the weighted-average dumping margin for the period August 2, 2001, through January 28, 2002, and March 8, 2002, through February 28, 2003, is as follows:

Manufacturer/exporter | Percent margin
Firth Rixson Special Steels Limited | 125.77

Interested parties who wish to request a hearing or to participate if one is requested, must submit a written request to the Assistant Secretary for Import Administration, Room B-099, within 30 days of the date of publication of this notice. Requests should contain: (1) The party's name, address and telephone number; (2) the number of participants; and (3) a list of issues to be discussed. See 19 CFR 351.310(c). If requested, a hearing will be held 44 days after the date of publication of this notice, or the first work day thereafter.

Issues raised in the hearing will be limited to those raised in the case briefs of interested parties. Case briefs and rebuttal briefs, limited to the issues raised in the respective case briefs, may be submitted not later than 30 days and 37 days, respectively, from the date of publication of these preliminary results. See 19 CFR 351.309(c) and (d). Parties who submit case briefs or rebuttal briefs in this proceeding are requested to submit with each argument (1) a statement of the issue and (2) a brief summary of the argument. Parties are also encouraged to provide a summary of the arguments not to exceed five pages and a table of statutes, regulations, and cases cited.

The Department will issue the final results of this administrative review, including the results of its analysis of issues raised in any written briefs, not later than 120 days after the date of publication of this notice.

Assessment Rates

The Department shall determine, and U.S. Customs and Border Protection (CBP) shall assess, antidumping duties on all appropriate entries. The Department will issue appropriate appraisement instructions directly to CBP upon completion of this review. We will instruct CBP to assess antidumping duties on all appropriate entries covered by this review. See 19 CFR 351.106(c)(2). The final results of this review shall be the basis for the assessment of antidumping duties on entries of merchandise covered by the final results of this review and for future deposits of estimated duties, where applicable.

Cash Deposit Requirements

The following cash deposit requirements will be effective for all shipments of the subject merchandise entered, or withdrawn from warehouse, for consumption on or after the publication date of the final results of this administrative review, as provided by section 751(a)(1) of the Act: (1) The cash deposit rate for FRSS will be that established in the final results of this review, except if the rate is less than 0.50 percent, and therefore, de minimis within the meaning of 19 CFR 351.106(c)(1), in which case the cash deposit rate will be zero; (2) for previously reviewed or investigated companies not listed above, the cash deposit rate will continue to be the company-specific rate published for the most recent period; (3) if the exporter is not a firm covered in this review, a prior review, or the original LTFV investigation, but the manufacturer is, the cash deposit rate will be the rate established for the most recent period for the manufacturer of the merchandise; and (4) the cash deposit rate for all other manufacturers or exporters will continue to be 4.48 percent, the “All Others” rate made effective by the LTFV investigation. These requirements, when imposed, shall remain in effect until publication of the final results of the next administrative review.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice are published in accordance with sections 751(a)(1) and 777(i)(1) of the Act and 19 CFR 351.221.

Dated: December 30, 2003.
James J. Jochum,
Assistant Secretary for Import Administration.

[FR Doc. 04-331 Filed 1-6-04; 8:45 am]

BILLING CODE 3510-DS-P